DEPARTMENT OF THE INTERIOR

Fish and Wildlife Service

Endangered and Threatened Species Permit Application

AGENCY: Fish and Wildlife Service, Interior.

ACTION: Notice of receipt of application.

The following applicant has applied for a permit to conduct certain activities with endangered species. This notice is provided pursuant to section 10(c) of the Endangered Species Act of 1973, as amended (16 U.S.C. 1531, et seq.).

Permit Number TE 007350-5

Applicant: The Nature Conservancy, Michigan Chapter, East Lansing, Michigan.

The applicant requests an amendment for their permit to take Mitchell's satyr (Neonympha mitchellii mitchelli). The applicant requests changes in TE 007350-4 to allow use of prescribed burning for habitat management and expand their range of activities (surveys, monitoring, and management) into additional areas of Michigan. Activities are proposed for the enhancement of survival of the species in the wild.

Written data or comments should be submitted to the Regional Director, U.S. Fish and Wildlife Service, Ecological Services Operations, 1 Federal Drive, Fort Snelling, Minnesota 55111-4056, and must be received within 30 days of the date of this publication.

Documents and other information submitted with this application are available for review by any party who requests a copy to the following office within 30 days of the date of publication of this notice: U.S. Fish and Wildlife Service, Ecological Services Operations, 1 Federal Drive, Fort Snelling, Minnesota 55111-4056. Telephone: (612/713-5343); FAX: (612/713-5292), or email peter_fasbender@fws.gov.

Lynn Lewis,
Acting Assistant Regional Director, Ecological Services, Region 3, Fort Snelling, Minnesota.

[FR Doc. 00-29795 Filed 11-20-00; 8:45 am]

BILLING CODE 4310-55-P